DEPARTMENT OF TRANSPORTATION

Federal Aviation Administration

14 CFR Part 39

[Docket No. FAA-2023-1219; Project Identifier MCAI-2023-00004-T; Amendment 39-22651; AD 2023-26-08]

RIN 2120-AA64

Airworthiness Directives; Bombardier, Inc. Airplanes

AGENCY: Federal Aviation Administration (FAA), DOT.

ACTION: Final rule.

SUMMARY: The FAA is adopting a new airworthiness directive (AD) for certain Bombardier, Inc., Model CL-600-2B16 (604 Variant) airplanes. This AD was prompted by a determination that a combination of system faults and procedural actions will cause the ground spoilers to deploy in the air. This AD requires revising the existing airplane flight manual (AFM) to add revised procedures. The FAA is issuing this AD to address the unsafe condition on these products.

DATES: This AD is effective March 20, 2024.

The Director of the Federal Register approved the incorporation by reference of certain publications listed in this AD as of March 20, 2024.

ADDRESSES:

AD Docket: You may examine the AD docket at regulations.gov under Docket No. FAA-2023-1219; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact Bombardier Business Aircraft Customer Response Center, 400 Côte-Vertu Road West, Dorval, Québec H4S 1Y9, Canada; telephone 514-855-2999; email: ac.yul@aero.bombardier.com; website: bombardier.com.

• You may view this service information at the FAA, Airworthiness Products Section, Operational Safety Branch, 2200 South 216th St., Des Moines, WA. For information on the availability of this material at the FAA, call 206-231-3195. It is also available at regulations.gov under Docket No. FAA-2023-1219.

FOR FURTHER INFORMATION CONTACT: William Reisenauer, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain Bombardier, Inc., Model CL-600-2B16 (604 Variant) airplanes. The NPRM published in the Federal Register on July 5, 2023 (88 FR 42886). The NPRM was prompted by AD CF-2023-01, dated January 4, 2023, issued by Transport Canada (hereafter referred to as the MCAI), which is the aviation authority for Canada. The MCAI states that, during an in-service event, a combination of system faults and procedural actions caused the ground spoilers to deploy in the air. During this event, the WOW [weight-on-wheels] INPUT Caution message had posted on the engine indication and crew alerting system (EICSA) after takeoff. The WOW INPUT message persisted, even after the flightcrew executed the WOW INPUT Quick Reference Handbook (QRH) procedure. During this time, the GND SPLRS [ground spoilers] NOT ARMED message also posted, and the flightcrew consequently manually armed the ground spoilers as required by procedure. An investigation by Bombardier, Inc., revealed that a fault occurred in the proximity sensor electronic unit (PSEU), which erroneously indicated ON GROUND while the airplane was in the air.

In the NPRM, the FAA proposed to require revision of the existing AFM to add revised procedures. The FAA is issuing this AD to address possible ground spoiler deployment leading to reduced controllability of the airplane, or excessive loss of altitude on final approach.

You may examine the MCAI in the AD docket at regulations.gov under Docket No. FAA-2023-1219.

Discussion of Final Airworthiness Directive

Comments

The FAA received one comment from a commenter who supported the NPRM without change.

The FAA received additional comments from Bombardier. The following presents the comments received and the FAA's responses.

Request for Later-Approved Service Information

Bombardier requested that the FAA change the AD to allow the use of the AFM revisions specified “or later revisions approved by the FAA, TCCA [Transport Canada Civil Aviation], or the Bombardier DAO [Design Approval Organization].”

The FAA disagrees with the commenter's request. The FAA may not refer to any future document that does not yet exist in an AD because 1 CFR 51.1(f) states a publication's incorporation by reference is limited to its approved edition; future publication amendments or revisions are outside this inclusion.

Further, paragraph (g) of this AD requires operators to incorporate “the information specified in” the specified AFM documents. If operators incorporate a later revision of an AFM document that contains the same information as the specified AFM document, then they are in compliance with paragraph (g) of this AD. However, if there are changes to procedures in later revisions, operators may request an alternative method of compliance with this AD under the provisions of paragraph (h)(1) of this AD.

Additional Changes Made to This Final Rule

In the NPRM, the FAA inadvertently referred to Sub-sub-section K, “Ground Spoilers Unsafe,” of Bombardier Challenger 604 Airplane Flight Manual, Publication No. PSP 604-1, Revision 125, dated March 14, 2022. The “Ground Spoilers Unsafe,” procedure of that document is actually “Sub-sub-section L.” Therefore, the FAA has revised all references of “Sub-sub-section K” to “Sub-sub-section L.”

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

The FAA reviewed the following service information, which specifies revised Abnormal Procedures of the AFM for Ground Spoilers Unsafe and Weight-on-Wheels Input Fault procedures. These documents are distinct since they apply to different airplane models and configurations.

• Sub-sub-section L, “Ground Spoilers Unsafe,” of sub-section 1, “Flight Controls,” of Section 05-11, “Flight Controls,” of Chapter 5, ABNORMAL PROCEDURES, of Bombardier Challenger 604 Airplane Flight Manual, Publication No. PSP 604-1, Revision 125, dated March 14, 2022. (For obtaining Bombardier Challenger 604 Airplane Flight Manual, Publication No. PSP 604-1, use Document Identification No. CH 604 AFM.)

• Sub-sub-section H, “Weight-on-Wheels Input Fault,” of sub-section 1, “Landing Gear, Wheel and Brake System,” of Section 05-16, “Landing Gear, Wheel and Brake System,” of Chapter 5, ABNORMAL PROCEDURES, of Bombardier Challenger 604 Airplane Flight Manual, Publication No. PSP 604-1, Revision 125, dated March 14, 2022. (For obtaining Bombardier Challenger 604 Airplane Flight Manual, Publication No. PSP 604-1, use Document Identification No. CH 604 AFM.)

• Sub-sub-section L, “Ground Spoilers Unsafe,” of sub-section 1, “Flight Controls,” of Section 05-11, “Flight Controls,” of Chapter 5, ABNORMAL PROCEDURES, of Bombardier Challenger 605 Airplane Flight Manual, Publication No. PSP 605-1, Revision 63, dated March 14, 2022. (For obtaining Bombardier Challenger 605 Airplane Flight Manual, Publication No. PSP 605-1, use Document Identification No. CH 605 AFM.)

• Sub-sub-section H, “Weight-on-Wheels Input Fault,” of sub-section 1, “Landing Gear, Wheel and Brake System,” of Section 05-16, “Landing Gear, Wheel and Brake System,” of Chapter 5, ABNORMAL PROCEDURES, of Bombardier Challenger 605 Airplane Flight Manual, Publication No. PSP 605-1, Revision 63, dated March 14, 2022. (For obtaining Bombardier Challenger 605 Airplane Flight Manual, Publication No. PSP 605-1, use Document Identification No. CH 605 AFM.)

• Sub-sub-section L, “Ground Spoilers Unsafe,” of sub-section 1, “Flight Controls,” of Section 05-11, “Flight Controls,” of Chapter 5, ABNORMAL PROCEDURES, of Bombardier Challenger 650 Airplane Flight Manual, Publication No. PSP 650-1, Revision 28, dated March 14, 2022. (For obtaining Bombardier Challenger 650 Airplane Flight Manual, Publication No. PSP 650-1, use Document Identification No. CH 650 AFM.)

• Sub-sub-section H, “Weight-on-Wheels Input Fault,” of sub-section 1, “Landing Gear, Wheel and Brake System,” of Section 05-16, “Landing Gear, Wheel and Brake System,” of Chapter 5, ABNORMAL PROCEDURES, of Bombardier Challenger 650 Airplane Flight Manual, Publication No. PSP 650-1, Revision 28, dated March 14, 2022. (For obtaining Bombardier Challenger 650 Airplane Flight Manual, Publication No. PSP 650-1, use Document Identification No. CH 650 AFM.)

This service information is reasonably available because the interested parties have access to it through their normal course of business or by the means identified in the ADDRESSES section.

Costs of Compliance

The FAA estimates that this AD affects 44 airplanes of U.S. registry. The FAA estimates the following costs to comply with this AD:

Estimated Costs for Required Actions
Labor cost | Parts cost | Cost per product | Cost on U.S. operators
1 work-hour × $85 per hour = $85 | $0 | $85 | $3,740

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-26-08 Bombardier, Inc.: Amendment 39-22651; Docket No. FAA-2023-1219; Project Identifier MCAI-2023-00004-T.

(a) Effective Date

This airworthiness directive (AD) is effective March 20, 2024.

(b) Affected ADs

None.

(c) Applicability

This AD applies to Bombardier, Inc., Model CL-600-2B16 (604 Variant) airplanes, certificated in any category, serial numbers (S/N) 5301 through 5665 inclusive, 5701 through 5988 inclusive, and 6050 through 6174 inclusive.

(d) Subject

Air Transport Association (ATA) of America Code: 27, Flight Controls.

(e) Unsafe Condition

This AD was prompted by a determination that a combination of system faults and procedural actions will cause the ground spoilers to deploy in the air. The FAA is issuing this AD to address possible ground spoiler deployment in the air leading to reduced controllability of the airplane, or excessive loss of altitude on final approach.

(f) Compliance

Comply with this AD within the compliance times specified, unless already done.

(g) Revision of Existing AFM

Within 60 days after the effective date of this AD: Do the applicable actions specified in paragraphs (g)(1) through (3) of this AD.

(1) For Model CL-600-2B16 (604 variant) airplanes, S/N 5301 through 5665 inclusive: Revise the existing airplane flight manual (AFM) to incorporate the information specified in paragraphs (g)(1)(i) and (ii) of this AD.

(i) Sub-sub-section L, “Ground Spoilers Unsafe,” of sub-section 1, “Flight Controls,” of Section 05-11, “Flight Controls,” of Chapter 5, ABNORMAL PROCEDURES, of Bombardier Challenger 604 Airplane Flight Manual, Publication No. PSP 604-1, Revision 125, dated March 14, 2022.

(ii) Sub-sub-section H, “Weight-on-Wheels Input Fault,” of sub-section 1, “Landing Gear, Wheel and Brake System,” of Section 05-16, “Landing Gear, Wheel and Brake System,” of Chapter 5, ABNORMAL PROCEDURES, of Bombardier Challenger 604 Airplane Flight Manual, Publication No. PSP 604-1, Revision 125, dated March 14, 2022.

Note 1 to paragraph (g)(1): For obtaining Bombardier Challenger 604 Airplane Flight Manual, Publication No. PSP 604-1, use Document Identification No. CH 604 AFM.

(2) For Model CL-600-2B16 (604 variant) airplanes, S/N 5701 through 5988 inclusive: Revise the existing AFM to incorporate the information specified in paragraphs (g)(2)(i) and (ii) of this AD.

(i) Sub-sub-section L, “Ground Spoilers Unsafe,” of sub-section 1, “Flight Controls,” of Section 05-11, “Flight Controls,” of Chapter 5, ABNORMAL PROCEDURES, of Bombardier Challenger 605 Airplane Flight Manual, Publication No. PSP 605-1, Revision 63, dated March 14, 2022.

(ii) Sub-sub-section H, “Weight-on-Wheels Input Fault,” of sub-section 1, “Landing Gear, Wheel and Brake System,” of Section 05-16, “Landing Gear, Wheel and Brake System,” of Chapter 5, ABNORMAL PROCEDURES, of Bombardier Challenger 605 Airplane Flight Manual, Publication No. PSP 605-1, Revision 63, dated March 14, 2022.

Note 2 to paragraph (g)(2): For obtaining Bombardier Challenger 605 Airplane Flight Manual, Publication No. PSP 605-1, use Document Identification No. CH 605 AFM.

(3) For Model CL-600-2B16 (604 variant) airplanes, S/N 6050 through 6174 inclusive: Revise the existing AFM to incorporate the information specified in paragraphs (g)(3)(i) and (ii) of this AD.

(i) Sub-sub-section L, “Ground Spoilers Unsafe,” of sub-section 1, “Flight Controls,” of Section 05-11, “Flight Controls,” of Chapter 5, ABNORMAL PROCEDURES, of Bombardier Challenger 650 Airplane Flight Manual, Publication No. PSP 650-1, Revision 28, dated March 14, 2022.

(ii) Sub-sub-section H, “Weight-on-Wheels Input Fault,” of sub-section 1, “Landing Gear, Wheel and Brake System,” of Section 05-16, “Landing Gear, Wheel and Brake System,” of Chapter 5, ABNORMAL PROCEDURES, of Bombardier Challenger 650 Airplane Flight Manual, Publication No. PSP 650-1, Revision 28, dated March 14, 2022.

Note 3 to paragraph (g)(3): For obtaining Bombardier Challenger 650 Airplane Flight Manual, Publication No. PSP 650-1, use Document Identification No. CH 650 AFM.

(h) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (i)(2) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(i) Additional Information

(1) Refer to Transport Canada AD CF-2023-01, dated January 4, 2023, for related information. This Transport Canada AD may be found in the AD docket at regulations.gov under Docket No. FAA-2023-1219.

(2) For more information about this AD, contact William Reisenauer, Aviation Safety Engineer, FAA, 1600 Stewart Avenue, Suite 410, Westbury, NY 11590; telephone 516-228-7300; email 9-avs-nyaco-cos@faa.gov.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Sub-sub-section L, “Ground Spoilers Unsafe,” of sub-section 1, “Flight Controls,” of Section 05-11, “Flight Controls,” of Chapter 5, ABNORMAL PROCEDURES, of Bombardier Challenger 604 Airplane Flight Manual, Publication No. PSP 604-1, Revision 125, dated March 14, 2022.

Note 4 to paragraph (j)(2)(i): This note applies to paragraphs (j)(2)(i) and (ii) of this AD. For obtaining Bombardier Challenger 604 Airplane Flight Manual, Publication No. PSP 604-1, use Document Identification No. CH 604 AFM.

(ii) Sub-sub-section H, “Weight-on-Wheels Input Fault,” of sub-section 1, “Landing Gear, Wheel and Brake System,” of Section 05-16, “Landing Gear, Wheel and Brake System,” of Chapter 5, ABNORMAL PROCEDURES, of Bombardier Challenger 604 Airplane Flight Manual, Publication No. PSP 604-1, Revision 125, dated March 14, 2022.

(iii) Sub-sub-section L, “Ground Spoilers Unsafe,” of sub-section 1, “Flight Controls,” of Section 05-11, “Flight Controls,” of Chapter 5, ABNORMAL PROCEDURES, of Bombardier Challenger 605 Airplane Flight Manual, Publication No. PSP 605-1, Revision 63, dated March 14, 2022.

Note 5 to paragraph (j)(2)(iii): This note applies to paragraphs (j)(2)(iii) and (iv) of this AD. For obtaining Bombardier Challenger 605 Airplane Flight Manual, Publication No. PSP 605-1, use Document Identification No. CH 605 AFM.

(iv) Sub-sub-section H, “Weight-on-Wheels Input Fault,” of sub-section 1, “Landing Gear, Wheel and Brake System,” of Section 05-16, “Landing Gear, Wheel and Brake System,” of Chapter 5, ABNORMAL PROCEDURES, of Bombardier Challenger 605 Airplane Flight Manual, Publication No. PSP 605-1, Revision 63, dated March 14, 2022.

(v) Sub-sub-section L, “Ground Spoilers Unsafe,” of sub-section 1, “Flight Controls,” of Section 05-11, “Flight Controls,” of Chapter 5, ABNORMAL PROCEDURES, of Bombardier Challenger 650 Airplane Flight Manual, Publication No. PSP 650-1, Revision 28, dated March 14, 2022.

Note 6 to paragraph (j)(2)(v): This note applies to paragraphs (j)(2)(v) and (vi) of this AD. For obtaining Bombardier Challenger 650 Airplane Flight Manual, Publication No. PSP 650-1, use Document Identification No. CH 650 AFM.

(vi) Sub-sub-section H, “Weight-on-Wheels Input Fault,” of sub-section 1, “Landing Gear, Wheel and Brake System,” of Section 05-16, “Landing Gear, Wheel and Brake System,” of Chapter 5, ABNORMAL PROCEDURES, of Bombardier Challenger 650 Airplane Flight Manual, Publication No. PSP 650-1, Revision 28, dated March 14, 2022.

(3) For service information identified in this AD, contact Bombardier, Inc., Business Aircraft Customer Response Center, 400 Côte-Vertu Road West, Dorval, Québec H4S 1Y9, Canada; telephone 514-855-2999; email: ac.yul@aero.bombardier.com; website: bombardier.com.

(4) You may view this service information at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations or email fr.inspection@nara.gov.

Issued on January 2, 2024.
Caitlin Locke,
Director, Compliance & Airworthiness Division, Aircraft Certification Service.

[FR Doc. 2024-02998 Filed 2-13-24; 8:45 am

BILLING CODE 4910-13-P